DEPARTMENT OF THE INTERIOR

Bureau of Reclamation

Folsom Lake State Recreation Area General Plan/Resource Management Plan, California

AGENCY: Bureau of Reclamation, Interior (Reclamation).

ACTION: Notice of Intent to prepare an environmental impact report /environmental impact statement (EIS/EIR).

SUMMARY: The U.S. Bureau of Reclamation (Reclamation) in partnership with the California Department of Parks and Recreation (CDPR) intend to prepare a General Plan/Resource Management Plan (GP/RMP) for the Folsom Lake State Recreation Area (including Lake Natoma and the Folsom Powerhouse State Historic Park). This planning activity encompasses approximately 18,000 acres of publicly accessible land/water owned by Reclamation and managed by the CDPR's Gold Fields District. The GP/RMP will be the primary management document for the park unit, providing a defined purpose, vision, long term-goals, and management guidelines. It will be used by CDPR as a framework for guiding decision-making related to the future development potential, ongoing management, resource conservation, and public use of the Folsom Lake State Recreation Area (Folsom Lake SRA). CDPR and Reclamation will prepare a joint EIR/EIS on the management actions and elements included in the GP/RMP.

DATES: A total of three regional workshops will be conducted to solicit public input at each phase of the planning process. The first public workshop was held on November 20, 2002 from 7 p.m. to 9:30 p.m. in Folsom, California.

This workshop, and other upcoming ones, will be used to solicit community input on local issues, concerns and aspirations as they relate to the Folsom Lake SRA. The information will be used to help form the definition of the goals/objectives of the GP/RMP, analysis of opportunities and constraints, and scope of subsequent planning and design efforts. The workshops will also serve as the public scoping meetings for preparation of the EIR/EIS, identifying the range and scope of issues to be addressed in the environmental assessment documents.

A second public workshop is planned for March/April 2003. At this time, the public will have the opportunity to further define their issues, concerns and aspirations, as well as consider and comment on developed alternative park unit improvement and conservation scenarios. At a third public workshop, tentatively scheduled for January 2004, plan proposals for land use, resource management, circulation and facilities will be presented for review and evaluation.

These public meetings will be announced through the local news media, newsletters, and the CDPR Web site (http://www.parks.ca.gov) at least 15 days prior to the event. Comments on issues and planning criteria may be submitted in writing to the address listed below.

ADDRESSES: The first meeting was held at Folsom Middle School, 500 Blue Ravine Road, Folsom, CA 95630. Locations for the other two meetings are not yet determined.

Written comments should be sent to Folsom Lake Plan Update c/o Wallace Roberts & Todd, LLC, 1328 Mission Street, Fourth Floor, San Francisco, CA 94103 or email: folsomlakeplanupdate@sf.wrtdesign.com.

FOR FURTHER INFORMATION CONTACT: Jim Micheaels, Associate Park and Recreation Specialist, Gold Fields District, 7806 Folsom-Auburn Road, Folsom, California 95630, phone (916) 988-0513; or Mike Petrinovich, Resource Manager, U.S. Bureau of Reclamation, Central California Area Office, Folsom, CA 95639, phone (916) 989-7276.

SUPPLEMENTARY INFORMATION: CDPR first entered into an agreement with Reclamation in 1956 to manage recreation facilities at Folsom Lake and Lake Natoma. The area was later designated as Folsom Lake SRA. Most of the lands around both lakes are owned by Reclamation and managed by CDPR. With approximately 2.5 million visitors annually, Folsom Lake SRA is one of the most popular and heavily visited units within the California State Park System. Lake Natoma and portions of the popular 32-mile American River Bike Trail are a part of the unit.

The current GP for Folsom Lake SRA was completed in 1979. The plan currently being developed will also serve as Reclamation's RMP for the area. The GP/RMP for Folsom Lake SRA will be a 2-year process. The GP/RMP will guide the long-term management of the SRA including protecting natural and cultural resources, providing for and management of public use and recreation opportunities, and outlining the development of future facilities. The plan update will include direction for the Folsom Powerhouse State Historic Park, a separate park unit that is administered in conjunction with Folsom Lake SRA.

The GP/RMP will guide management decisions and activities by establishing long-term management direction, area-wide goals and objectives, actions necessary to achieve desired future conditions, identification of lands suitable or not suitable for resource use and production, and monitoring and evaluation requirements. The GP/RMP planning process will be an interdisciplinary effort between CDPR, Reclamation, other relevant agencies, stakeholders and the public. The CDPR and Reclamation will work collaboratively with interested parties to identify the management decisions that address local, regional, and national needs and concerns. The public participation process as outlined above will identify planning issues, develop planning criteria, and will include an evaluation of existing CDPR and Reclamation management plans in the context of the needs and interest of the public and the conservation of natural and cultural resources.

Preliminary issues and management concerns have been identified by CDPR and Reclamation personnel and other agencies. The preliminary issues identified thus far represent the CDPR's and Reclamation's knowledge to date on the existing issues and concerns with current management, but are not limited to these. The major issue themes that will be addressed in the plan effort include: assessment of impacts to the unit's resources from adjacent development and recent road-widening projects; access to and transportation within the park including trails and boat ramp access; recreation/visitor use and safety; management and protection of public land resources; and potential future action including acquisition, and construction of new facilities. The public is encouraged to help identify additional management questions and concerns to be addressed in the plan.

As part of the GP/RMP process, an EIR/EIS will be prepared in compliance with the National Environmental Protection Act (NEPA) and the California Environmental Quality Act (CEQA). The EIR/EIS will evaluate the environmental impacts of the management actions and projects contained in the GP/RMP, as a whole, in a programmatic manner. As the GP/RMP is implemented over time, specific project proposals can tier from the EIR/EIS by further evaluating the details of the specific project through subsequent environmental review. The Draft EIR/EIS is projected to be available for public review for a 45-day early in 2004. Toward the end of the review period, a public hearing will be held in the vicinity of the Folsom Lake SRA to receive public comment on both the GP/RMP and Draft EIR/EIS.

Our practice is to make comments, including names and home addresses of respondents available for public review. Individual respondents may request that we withhold their home addresses from public disclosure, which we will honor to the extent allowable by law. There may also be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: December 20, 2002.
Frank Michny,
Regional Environmental Officer, Mid-Pacific Region.

[FR Doc. 03-1075 Filed 1-16-03; 8:45 am]

BILLING CODE 4310-MN-P